DEPARTMENT OF LABOR

Employment and Training Administration

[TA-W-72,139]

Amended Certification Regarding Eligibility To Apply for Worker Adjustment Assistance: Auburn Hills, MI

Electronic Data Systems, a Hewlett-Packard Company, Enterprise Services Division, Including On-Site Leased Workers of Auburn Hills Suppliers, Affiliated Computer Services, Inc., Apex Systems, Inc., ASA Solutions, Inc., Avaya, Inc., Bender RBT, Inc., BMC Software Distribution, Inc., Bucher and Christian Consulting, Inc., Chain Innovations LLC, Computer Task Group, Compuware Corp., Comsys Information Technology Svc, Covansys, Crossbeam Systems, Educorp Training and Consulting, Inc., EMC Corp., Empirix, Inc., Fujitsu Computer Systems Corp., Halo Group LLC, Hewlett Packard, Kelly Services, Inc., Kelly Services Technical/Professional, Keypeople Resources, Inc., Korn/Ferry International, Inc., Micro Focus, Inc., Microsoft Corp., Midwest Success LLC, Mir Mitchell and Co Llp, Momentum Resource Solutions, New Boston Systems, Inc., Ntelicor, Oracle USA, Inc., Pinnacle Technical Resources, Inc., Qmi-Sai Global, Recruit Dynamics LLC, Sai Global Assurance Services, Sapphire Technologies LLC, Sun Microsystems, Inc., Teksystems, Tescra, Inc., Unimax Systems Corp., Verizon Network Integration Corp., Vision Information Technologies, Inc., Volt Services Group, and Zerochaos Acquisition Company LLC

In accordance with Section 223 of the Trade Act of 1974, as amended (“Act”), 19 U.S.C. 2273, the Department of Labor issued a Certification of Eligibility to Apply for Worker Adjustment Assistance on January 12, 2010, applicable to workers of Electronic Data Systems, a Hewlett-Packard Company, Enterprise Services Division, including on-site leased workers from the above listed firms, Auburn Hills, Michigan. The petition is dated August 26, 2009. The Department's Notice of determination was published in the Federal Register on February 16, 2010 (75 FR 7038).

The worker group covered by TA-W-72,139 is identical to the worker group covered by an earlier petition (TA-W-71,468; dated June 25, 2009). While it is the Department's practice to terminate the later petition in order to provide the longest period during which a member of the worker group may apply for Trade Adjustment Assistance (TAA), the Department had delayed the investigation for TA-W-71,468 due to a technical deficiency and continued the investigation for TA-W-72,139. Following the issuance of the certification in TA-W-72,139, the Department issued a Notice of Termination of Investigation for TA-W-71,468.

An unintended result of the Department's decision is that a portion of workers covered by TA-W-71,468 (workers separated on/after June 25, 2008) are excluded from the certification of TA-W-72,139 (workers separated on/after August 26, 2008 through January 12, 2012).

Accordingly, the Department is amending this certification to include workers covered by TA-W-71,468.

The intent of the Department's certification is to include all workers of the subject firm who were adversely affected by the subject firm's acquisition from a foreign country services like or directly competitive with the services supplied by the workers at the Auburn Hills, Michigan facility.

The amended notice applicable to TA-W-72,139 is hereby issued as follows:

“All workers of Electronic Data Systems, a Hewlett-Packard Company, Enterprise Services Division, including on-site leased workers from Auburn Hills Suppliers, Affiliated Computer Services, Inc., Apex Systems, Inc., Asa Solutions, Inc., Avaya, Inc., Bender RBT, Inc., BMC Software Distribution, Inc., Bucher and Christian Consulting, Inc., Chain Innovations LLC, Computer Task Group, Compuware Corp., Comsys Information Technology SVC, Covansys, Crossbeam Systems, Educorp Training & Consulting, Inc., EMC Corp., Empirix, Inc., Fujitsu Computer Systems Corp., Halo Group LLC, Hewlett Packard, Kelly Services, Inc., Kelly Services Technical/Professional, Keypeople Resources, Inc., Korn/Ferry International, Inc., Micro Focus, Inc., Microsoft Corp., Midwest Success LLC, Mir Mitchell and Co. LLP, Momentum Resource Solutions, New Boston Systems, Inc., Ntelicor, Oracle USA, Inc., Pinnacle Technical Resources, Inc., QMI-SAI Global, Recruit Dynamics LLC, SAI Global Assurance Services, Sapphire Technologies LLC, Sun Microsystems, Inc., Teksystems, Tescra, Inc., Unimax Systems Corp., Verizon Network Integration Corp., Vision Information Technologies, Inc., Volt Services Group, and Zerochaos Acquisition Company LLC, who became totally or partially separated from employment on or after June 25, 2008 through January 12, 2012, and all workers in the group threatened with total or partial separation from employment on date of certification through January 12, 2012, are eligible to apply for adjustment assistance under Chapter 2 of Title II of the Trade Act of 1974, as amended.”

Signed in Washington, DC, this 29th day of April, 2010.
Richard Church,
Certifying Officer, Division of Trade Adjustment Assistance.

[FR Doc. 2010-11277 Filed 5-11-10; 8:45 am]

BILLING CODE 4510-FN-P